DEPARTMENT OF COMMERCE

National Oceanic and Atmospheric Administration

RIN 0648-XG917

Endangered and Threatened Species; Take of Anadromous Fish

AGENCY: National Marine Fisheries Service (NMFS), National Oceanic and Atmospheric Administration (NOAA), Commerce.

ACTION: Notice of availability.

SUMMARY: Notice is hereby given that NMFS has received seven plans for hatchery operations rearing and releasing Chinook salmon and summer steelhead hatchery programs rearing salmon and steelhead in the Upper Columbia River Basin. The plans describe programs operated by the Washington Department of Fish and Wildlife (WDFW), U.S. Fish and Wildlife Service (USFWS), and Douglas Public Utility District (PUD). The programs are funded by the Douglas PUD, Chelan PUD, Grant PUD, and U.S. Bureau of Reclamation (USBOR). This document serves to notify the public of the availability of these materials, including the draft EA, for review and comment prior to a decision by NMFS on approval of the plan and issuance of the permits.

DATES: Comments must be received at the appropriate address (see ADDRESSES) no later than 5:00 p.m. Pacific time on May 2, 2019. Comments received after this date may not be considered.

ADDRESSES: Written responses to the addendum should be addressed to the NMFS Sustainable Fisheries Division, 1201 NE Lloyd Blvd., Portland, OR 97232. Comments may be submitted by email. The mailbox address for providing email comments is: Hatcheries.Public.Comment@noaa.gov. Include in the subject line of the email comment the following identifier: Comments on Upper Columbia Hatchery programs approvals.

FOR FURTHER INFORMATION CONTACT: Emi Kondo at (503) 736-4739 or by email at emi.kondo@noaa.gov.

SUPPLEMENTARY INFORMATION: ESA-Listed Species Covered in This Notice

• Upper Columbia River Spring-run Chinook (Oncorhynchus tshawytscha): Endangered, naturally and artificially propagated

• Upper Columbia River Steelhead (O. mykiss): Threatened, naturally and artificially propagated

Background

Section 9 of the Endangered Species Act (ESA) and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under section 4(d) of the ESA.

The co-managers and funding agencies, including the PUDs, WDFW, USFWS, and USBOR, have submitted hatchery and genetic management plans (HGMP) to NMFS pursuant to sections 4(d), 10(a)(1)(A), and 10(a)(1)(B) of the ESA for hatchery activities in the Upper Columbia River basin. For the programs considered under section 10, the HGMPs serve as permit applications.

The HGMPs describe actions involving hatchery activities (with associated monitoring and evaluation) in the Upper Columbia River basin. The programs are intended to contribute to the survival and recovery of Upper Columbia River Basin steelhead in the Upper Columbia River basin, and to responsibly enhance fishing opportunity on hatchery-origin summer/fall and fall Chinook salmon and steelhead returns.

Authority

NMFS will evaluate each application, associated documents, and comments submitted thereon to determine whether the applications meet the requirements of section 4(d) of the ESA, Limit 5, and sections 10(a)(1)(A) and 10(a)(1)(B) of ESA. If it is determined that the requirements are met under the sections mentioned above, one HGMP will be approved for the purpose of carrying out the hatchery programs and the relevant section 10 permits will be issued. NMFS will publish a record of its final action in the Federal Register.

Dated: March 27, 2019.
Angela Somma,
Chief, Endangered Species Conservation Division, Office of Protected Resources, National Marine Fisheries Service.

[FR Doc. 2019-06316 Filed 4-1-19; 8:45 am]

BILLING CODE 3510-22-P